DEPARTMENT OF ENERGY

Federal Energy Regulatory Commission

[Docket No. RT01-74-000]

Carolina Power & Light Company, Duke Energy Corporation, South Carolina Electric & Gas Company, GridSouth Transco, L.L.C.; Notice of Filing

October 20, 2000.

Take notice that on October 16, 2000, Carolina Power & Light Company, Duke Energy Corporation, and South Carolina Electric & Gas Company (collectively, the Applicants), pursuant to Sections 203 and 205 of the Federal Power Act, jointly filed their Order No. 2000 compliance filing providing for the creation of a Regional Transmission Organization (RTO). The Applicants seek authorization and approval to establish GridSouth Transco, LLC as an RTO.

The Applicants state that they are submitting for approval under FPA Section 205 the terms and conditions of GridSouth's OATT, but are not at this time seeking approval of rates.

Any person desiring to be heard or to protest such filing should file a motion to intervene, comments, or protest with the Federal Energy Regulatory Commission, 888 First Street, NE., Washington, DC 20426, in accordance with Rules 211 and 214 of the Commission's Rules of Practice and Procedure (18 CFR 385.211 and 385.214). All such motions, comments and protests should be filed on or before November 20, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance). Beginning November 1, 2000, comments and protests may be filed electronically via the internet in lieu of paper. See, 18 CFR 385.2001(a)(1)(iii) and the instructions on the Commission's web site at ­ http://www.ferc.fed.us/efi/doorbell.htm.

Linwood A. Watson, Jr.,
Acting Secretary.

[FR Doc. 00-27554 Filed 10-25-00; 8:45 am]

BILLING CODE 6717-01-M